DEPARTMENT OF DEFENSE

Department of the Army

Army National Cemeteries Advisory Commission (ANCAC)

AGENCY: Department of the Army, DoD.

ACTION: Notice of open committee meeting.

SUMMARY: Pursuant to the Federal Advisory Committee Act of 1972 (5 U.S.C., Appendix, as amended), the Sunshine in the Government Act of 1976 (U.S.C. 552b, as amended) and 41 Code of Federal Regulations (CFR 102-3.140 through 160), the Department of the Army announces the following committee meeting:

Name of Committee: Army National Cemeteries Advisory Commission.

Date of Meeting: Thursday, March 8, 2012.

Time of Meeting: 9 a.m.-4 p.m.

Place of Meeting: Women in Military Service for America Memorial, Conference Room, Arlington National Cemetery, Arlington, VA.

Proposed Agenda: Purpose of the meeting is to approve minutes from inaugural meeting on December 1, 2011; formalize subcommittee membership and appointment as approved by the Secretary of Defense; review status of subcommittee topics; and set the proposed calendar for follow-on meetings.

Public's Accessibility to the Meeting: Pursuant to 5 U.S.C. 552b and 41 CFR 102-3.140 through 102-3.165, and the availability of space, this meeting is open to the public. Seating is on a first-come basis.

FOR FURTHER INFORMATION CONTACT: Lieutenant Colonel Renea Yates; renea-yates@us.army.mil or 571.256.4325.

SUPPLEMENTARY INFORMATION: The following topics are on the agenda for discussion:

○ Gravesite Accountability Task Force Report (22 December 2011)

○ Fiscal Stewardship and Information Technology Update

○ Army National Cemeteries Program Campaign Plan

○ Subcommittee Activities:

“Honor” Subcommittee: Independent recommendations of methods to address the long-term future of the Army National Cemeteries, including how best to extend the active burials and on what ANC should focus once all available space has been utilized.

“Remember” Subcommittee: Recommendations on preserving the Tomb of the Unknown Soldier including the cracks in the large marble sarcophagus, the adjacent marble slabs, and the potential replacement marble stone for the sarcophagus already gifted to the Army.

“Explore” Subcommittee: Recommendations Section 60 Mementos study and improving the quality of visitors' experiences now and for generations to come.

The Commission's mission is to provide the Secretary of Defense, through the Secretary of the Army, independent advice and recommendations on the Army National Cemeteries Program, including, but not limited to:

a. Management and operational issues, including bereavement practices;

b. Plans and strategies for addressing long-term governance challenges;

c. Resource planning and allocation; and

d. Any other matters relating to Army National Cemeteries that the Commission's co-chairs, in consultation with the Secretary of the Army, may decide to consider.

Filing Written Statement: Pursuant to 41 CFR 102-3.140d, the Committee is not obligated to allow the public to speak; however, interested persons may submit a written statement for consideration by the Commission. Written statements must be received by the Designated Federal Officer at the following address: Army National Cemeteries Advisory Commission, ATTN: Designated Federal Officer (DFO) (LTC Yates), Arlington National Cemetery, Arlington, Virginia 22211 not later than 5 p.m., Monday, March 5, 2012. Written statements received after this date may not be provided to or considered by the Army National Cemeteries Advisory Commission until the next open meeting. The Designated Federal Officer will review all timely submissions with the Commission Chairperson and ensure they are provided to the members of the Army National Cemeteries Advisory Commission.

Brenda S. Bowen,
Army Federal Register Liaison Officer.

[FR Doc. 2012-3749 Filed 2-16-12; 8:45 am]

BILLING CODE 3710-08-P